DEPARTMENT OF HOMELAND SECURITY

Coast Guard

33 CFR Part 117

[CGD01-04-009]

Drawbridge Operation Regulations: Cheesequake Creek, NJ

AGENCY: Coast Guard, DHS.

ACTION: Notice of temporary deviation from regulations.

SUMMARY: The Commander, First Coast Guard District, has issued a temporary deviation from the drawbridge operation regulations for the New Jersey Transit Rail Operations railroad bridge, mile 0.2, across Cheesequake Creek, New Jersey. Under this temporary deviation the bridge may remain closed from 7:30 a.m. on February 28, 2004 through 7:30 a.m. on March 1, 2004, to facilitate necessary bridge maintenance.

DATES: This deviation is effective from February 28, 2004 through March 1, 2004.

FOR FURTHER INFORMATION CONTACT: Joe Arca, Project Officer, First Coast Guard District, at (212) 668-7069.

SUPPLEMENTARY INFORMATION: The New Jersey Transit Rail Operations railroad bridge has a vertical clearance in the closed position of 3 feet at mean high water and 8 feet at mean low water. The existing drawbridge operation regulations are listed at 33 CFR 117.709(b).

New Jersey Transit Rail Operations, requested a temporary deviation from the drawbridge operation regulations to facilitate repairs to the electrical control unit at the bridge. The bridge must remain in the closed position to perform these repairs.

Under this temporary deviation the New Jersey Transit Rail Operations railroad bridge may remain in the closed position from 7:30 a.m. on February 28, 2004 through 7:30 a.m. on March 1, 2004.

This deviation from the operating regulations is authorized under 33 CFR 117.35(a), and will be performed with all due speed in order to return the bridge to normal operation as soon as possible.

Dated: February 13, 2004.
John L. Grenier,
Captain, U.S. Coast Guard, Acting Commander, First Coast Guard District.

[FR Doc. 04-4211 Filed 2-25-04; 8:45 am]

BILLING CODE 4910-15-P